DEPARTMENT OF TRANSPORTATION

Federal Aviation Administration

14 CFR Part 39

[Docket No. FAA-2013-0735; Directorate Identifier 2013-SW-014-AD]

RIN 2120-AA64

Airworthiness Directives; Bell Helicopter Textron, Inc. (Bell) Helicopters

AGENCY: Federal Aviation Administration (FAA), DOT.

ACTION: Notice of proposed rulemaking (NPRM).

SUMMARY: We propose to adopt a new airworthiness directive (AD) for Bell Model 204B helicopters. This proposed AD would require inspecting the tail rotor (T/R) cable assembly for an incorrectly machined body. This proposed AD is prompted by a report from Bell that a defective body on the cable prevents the barrel assembly from fully engaging in the body cavity. The proposed actions are intended to prevent disengagement of the cable from the barrel, failure of the T/R pitch control, and subsequent loss of control of the helicopter.

DATES: We must receive comments on this proposed AD by October 21, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron, Inc., P.O. Box 482, Fort Worth, TX 76101; telephone (817) 280-3391; fax (817) 280-6466; or at http://www.bellcustomer.com/files/. You may review the referenced service information at the FAA, Office of the Regional Counsel, Southwest Region, 2601 Meacham Blvd., Room 663, Fort Worth, Texas 76137.

FOR FURTHER INFORMATION CONTACT: Helene Gandy, Aviation Safety Engineer, Rotorcraft Certification Office, Rotorcraft Directorate, FAA, 2601 Meacham Blvd., Fort Worth, Texas 76137; telephone (817) 222-5413; email 7-AVS-ASW-170@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We received a report from Bell that a number of cable assemblies, part number (P/N) 205-001-720-001, were manufactured with a defective body, P/N 205-001-742-001. Bell states the bodies were incorrectly machined with a “false cut,” preventing the barrel assembly, P/N 0301245, from fully engaging with the body cavity. This condition, combined with a failure of the lockwire securing the barrel and the cable, could result in disengagement of the cable, T/R pitch control failure in a fixed position, and subsequent loss of control of the helicopter.

FAA's Determination

We are proposing this AD because we evaluated all known relevant information and determined that an unsafe condition exists and is likely to exist or develop on other helicopters of the same type design.

Related Service Information

We reviewed Bell Alert Service Bulletin (ASB) No. 204B-12-68, dated October 10, 2012, which describes procedures for inspecting the barrel assembly to determine if an incorrectly machined body is installed. If an incorrectly machined body is installed, the ASB specifies replacing the cable assembly. The ASB further specifies inspecting the barrel assembly and cable connection daily until the cable assembly is replaced.

Proposed AD Requirements

This proposed AD would require inspecting each cable assembly, within 25 hours time-in-service (TIS), to determine if an incorrectly machined body is installed. If an incorrectly machined body is installed, the proposed AD would require replacing the cable assembly within 100 hours TIS. Until the cable assembly is replaced, this proposed AD would require inspecting the assembly for separation daily.

Differences Between This Proposed AD and the Service Information

The ASB specifies replacing any defective cable assembly within 100 hours TIS or by January 31, 2013; the proposed AD specifies replacing the cable assembly within 100 hours TIS.

Costs of Compliance

We estimate that this proposed AD would affect 9 helicopters of U.S. Registry. We estimate that operators may incur the following costs in order to comply with this AD. At an average labor rate of $85 per hour, inspecting the barrel assembly would require about 1 work-hour, for a cost per helicopter of $85 and a total cost of $765 for the fleet. If required, replacing a defective cable assembly would require about 8 work-hours, and required parts would cost about $625, for a cost per helicopter of $1,305.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron, Inc. (Bell) Helicopters: Docket No. FAA-2013-0735; Directorate Identifier 2013-SW-014-AD.

(a) Applicability

This AD applies to Bell Model 204B helicopters with a cable assembly, part number (P/N) 205-001-720-001 installed, certificated in any category.

(b) Unsafe Condition

This AD defines the unsafe condition as an incorrectly machined body on the cable assembly, which could prevent the barrel assembly from fully engaging in the body cavity. This condition could result in disengagement of the cable from the barrel, failure of the tail rotor pitch control, and subsequent loss of control of the helicopter.

(c) Comments Due Date

We must receive comments by October 21, 2013.

(d) Compliance

You are responsible for performing each action required by this AD within the specified compliance time unless it has already been accomplished prior to that time.

(e) Required Actions

(1) Within 25 hours time in service (TIS), inspect each cable assembly to determine if there is a false cut on the body of the barrel assembly, as depicted in Figure 1 of Bell Alert Service Bulletin No. 204B-12-68, dated October 10, 2012.

(2) If there is a false cut, before the first flight of each day, inspect the cable assembly for separation of the barrel assembly from the body. If there is any separation, before further flight, replace the cable assembly.

(3) Within 100 hours TIS, replace the cable assembly with an airworthy cable assembly that does not have a false cut in the body. Replacing the cable assembly is terminating action for the inspections required by paragraph (e)(2) of this AD.

(f) Alternative Methods of Compliance (AMOC)

(1) The Manager, Rotorcraft Certification Office, FAA, may approve AMOCs for this AD. Send your proposal to: Helene Gandy, Aviation Safety Engineer, Rotorcraft Certification Office, Rotorcraft Directorate, FAA, 2601 Meacham Blvd., Fort Worth, Texas 76137; telephone (817) 222-5413; email 7-AVS-ASW-170@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Subject

Joint Aircraft Service Component (JASC) Code: 6720: Tail Rotor Control System.

Issued in Fort Worth, Texas, on August 12, 2013.
Kim Smith,
Directorate Manager, Rotorcraft Directorate, Aircraft Certification Service.

[FR Doc. 2013-20248 Filed 8-19-13; 8:45 am]

BILLING CODE 4910-13-P